DEPARTMENT OF ENERGY

Federal Energy Regulatory Commission

[Project No. 2165-067]

Alabama Power Company; Notice of Application Accepted for Filing, Soliciting Comments, Motions To Intervene, and Protests

Take notice that the following hydroelectric application has been filed with the Federal Energy Regulatory Commission and is available for public inspection:

a. Type of Application: Non-project use of project lands and water.

b. Project No: 2165-067.

c. Date Filed: July 8, 2015.

d. Applicant: Alabama Power Company (licensee).

e. Name of Project: Warrior River Hydroelectric Project.

f. Location: Lewis Smith Development (Smith Lake) of the Warrior River Hydroelectric Project located in Cullman, Walker, and Winston counties, Alabama.

g. Filed Pursuant to: Federal Power Act, 16 U.S.C. 791a—825r.

h. Applicant Contact: James F. Crew, Hydro Services Manager, Alabama Power Company, 600 North 18th Street, 16N-8180, Birmingham, Alabama 35203; phone (205) 257-4265.

i. FERC Contact: Mr. Robert Ballantine at 202-502-6289, robert.ballantine@ferc.gov

j. Deadline for filing comments, motions to intervene, and protests is 30 days from the issuance of this notice by the Commission. All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the project number (P-2165-067) on any comments, motions, or recommendations filed.

k. Description of Request: Alabama Power Company requests Commission approval to grant Curry Water Authority, Inc. a permit to use project lands and waters within the project boundary on Smith Lake for the construction of a raw water intake facility to withdraw up to 3.8 million gallons per day. A portion of the intake facility would be constructed within the project boundary, consisting of concrete encased columns supporting a pump house containing four vertical turbine pumps over the water (Latitude 33.999941, Longitude -87.283845); a 12 inch water main running from the pump house, and a 25 foot long by 10 foot wide walkway supported by piers. Also included in the construction would be a control building and a security fence located outside the 522 foot contour of the project boundary on land owned by the Curry Water Authority, Inc. off of Bluff Way Drive.

l. Locations of the Application: A copy of the application is available for inspection and reproduction at the Commission's Public Reference Room, located at 888 First Street NE., Room 2A, Washington, DC 20426, or by calling 202-502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”; “PROTESTS”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: August 14, 2015.
Kimberly D. Bose,
Secretary.

[FR Doc. 2015-20577 Filed 8-19-15; 8:45 am]

BILLING CODE 6717-01-P